DEPARTMENT OF HEALTH AND HUMAN SERVICES

National Institutes of Health

National Library of Medicine; Notice of Meeting

Notice is hereby given of the first meeting of the Working Group on Chemical Information Resource Coordination under the National Library of Medicine's (NLM) Board of Scientific Counselors, National Center for Biotechnology Information (NCBI).

The meeting will be open to the public, with attendance limited to space available. Individuals who plan to attend and need special assistance, such as sign language interpretation or other reasonable accommodations, should notify the Contact Person listed below in advance of the meeting.

The mission of the Working Group on Chemical Information Resource Coordination is to advise the Board of Scientific Counselors, NCBI, on interactions with private sector information providers in the development of the PubChem database. PubChem is a publicly available database that includes information about the biological activities of chemical compounds, and is designed to facilitate more integrated access to these information resources for biomedical researchers. The working group will: (1) Establish a process for retrospective evaluation of the biomedical relevance of compounds entered into PubChem, (2) Ensure the provenance of the data (i.e., whether private data are being improperly deposited into PubChem), (3) Ensuring the high quality of data in PubChem, (4) Monitoring the effect of PubChem on scientific progress, (5) Improving/integrating interactions with commercial information providers, and (6) Avoiding unnecessary duplication with commercial information providers. This working group supports part of the National Institutes of Health's Roadmap, called the Molecular Libraries Initiative.

Name of Committee: Working Group on Chemical Information Resource Coordination.

Date: December 19, 2005.

Time: 9 a.m. to 4 p.m.

Agenda: Discussion on the NLM/NCBI PubChem Database.

Place: National Library of Medicine, Building 38, Board Room, 2nd Floor, 8600 Rockville Pike, Bethesda, MD 20894.

Contact Person: David J. Lipman, MD, Director, National Center for Biotechnology Information, National Library of Medicine, NIH, Building 38A, Room 8N803, Bethesda, MD 20894, 301-496-2475.

Any interested person may file written comments with the committee by forwarding the statement to the Contact Person listed on this notice. The comment should include the name, address, telephone number and, when applicable, the business or professional affiliation of the interested person.

Dated: November 29, 2005.
Nancy Middendorf,
Acting Director, Office of Federal Advisory Committee Policy.

[FR Doc. 05-23792 Filed 12-7-05; 8:45 am]

BILLING CODE 4140-01-M